DEPARTMENT OF ENERGY

Federal Energy Regulatory Commission

[Docket Nos. RP00-445-000, CP97-168-004, CP97-169-000, CP97-177-000, and CP97-178-000]

Alliance Pipeline L.P.; Notice of Application to Amend Certificate, Approve Revised Tariff and Extend Waiver

August 15, 2000.

Take notice that on August 4, 2000, Alliance Pipeline L.P. (Alliance) tendered for filing its FERC Gas Tariff, Original Volume No. 1, proposed to become effective October 2, 2000. Alliance states that the purpose of this filing is to comply with the Commission's orders issued August 1, 1997 and September 17, 1998 in Docket Nos. CP97-168-000, et al. and to place the Alliance tariff into effect October 2, 2000, the anticipated in-service date of the pipeline. Alliance also requests an extension of the waiver granted in Docket No. RP00-243 issued June 14, 2000.

Any person desiring to be heard or to protest said filing should file a motion to intervene or a protest with the Federal Energy Regulatory Commission, 888 First Street, NE., Washington, DC 20426, in accordance with sections 385.2124 or 385.211 of the Commission's Rules and Regulations. All such motions or protests must be filed in accordance with section 154.210 of the Commission's Regulations. Protests will be considered by the Commission in determining the appropriate action to be taken, but will not serve to make protestants parties to the proceedings. Any person wishing to become a party must file a motion to intervene. Copies of this filing are on file with the Commission and are available for public inspection in the Public Reference Room. This filing may be viewed on the web at http://www.ferc.fed.us/online/rims.htm (call 202-208-2222 for assistance).

David P. Boergers,
Secretary.

[FR Doc. 00-21152 Filed 8-18-00; 8:45 am]

BILLING CODE 6717-01-M